DEPARTMENT OF EDUCATION

Office of Innovation and Improvement

Charter Schools Program Grants to Non-State Educational Agencies for Planning, Program Design, and Implementation and for Dissemination

Catalog of Federal Domestic Assistance (CFDA) Numbers: 84.282B and 84.282C.

ACTION: Notice inviting applications for new awards for fiscal year (FY) 2009; correction.

SUMMARY: The Department of Education is correcting the notice inviting applications for new awards for FY 2009 for Charter Schools Program Grants to Non-State Educational Agencies for Planning, Program Design, and Implementation and for Dissemination that was published in the Federal Register on July 27, 2009 (74 FR 37020).

Correction: (1) On page 37020, in the third column, under Priority, fourth line; and (2) on page 37021, in the first column, first line, the date and page reference for the Federal Register are corrected to read “November 21, 2008 (73 FR 70627).”

FOR FURTHER INFORMATION CONTACT: Erin Pfeltz, U.S. Department of Education, 400 Maryland Avenue, SW., room 4W255, Washington, DC 20202-5970. Telephone: (202) 205-3525.

If you use a telecommunications device for the deaf (TDD), call the Federal Relay Service (FRS), toll free, at 1-800-877-8339.

Individuals with disabilities can obtain this document in an accessible format (e.g., braille, large print, audiotape, or computer diskette) on request to the contact person listed under this section.

Electronic Access to this Document: You can view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Dated: July 30, 2009.
James H. Shelton III,
Assistant Deputy Secretary for Innovation and Improvement.

[FR Doc. E9-18609 Filed 8-4-09; 8:45 am]

BILLING CODE 4000-01-P